DEPARTMENT OF TRANSPORTATION

Federal Aviation Administration

[Docket No. FAA-2019-0819]

Agency Information Collection Activities: Requests for Comments; Clearance of a New Approval of Information Collection: National Sleep Study

AGENCY: Federal Aviation Administration (FAA), DOT.

ACTION: Notice and request for comments.

SUMMARY: In accordance with the Paperwork Reduction Act of 1995, FAA invites public comments about our intention to request the Office of Management and Budget (OMB) approval for a new information collection. The collection involves study on relationships between aircraft noise events and the probability of awakening.

DATES: Written comments should be submitted by April 23, 2021.

ADDRESSES: Send comments identified by docket number FAA-2019-0819 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

FOR FURTHER INFORMATION CONTACT: Sean Doyle by email at: sean.doyle@faa.gov; phone: 202-267-3493.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: National Sleep Study.

Form Numbers: None.

Type of Review: Clearance of a new information collection.

Background: As part of FAA's broader noise research program, the National Sleep Study has been designed to collect nationally representative information on the effects of aircraft noise on sleep and to derive exposure-response relationships between aircraft noise and its effect on communities around United States civilian airports. This Study will collect information from residents living near airports to determine their probability of awakening due to aircraft noise exposure. The FAA will use the information from this collection to derive the empirical data to inform any potential updates to or validation of the national aviation noise policy. Further information on National Sleep Study as part of the FAA's noise research program was also made available through a separate notice 86 FR 2722.

Respondents: Approximately 4,400 respondents to 25,000 postal surveys (18% response rate). From among these survey respondents, approximately 400 respondents (9.1%) will be recruited into the field study.

Frequency: Response to the postal survey, and participation in the field study, will be a one-time event.

Estimated Average Burden per Response: The postal survey will take an estimated 8.25 minutes to complete. The field study will take an estimated 2 hours and 33 minutes of active participation across 5 study days to complete.

Estimated Total Annual Burden: The estimated total annual burden for the postal survey is 302 hours and 30 minutes in each of the two years of the study, and 510 hours for field study.

Issued in Washington, DC.
Kevin Welsh,
Executive Director, FAA Office of Environment & Energy.

[FR Doc. 2021-06045 Filed 3-23-21; 8:45 am]

BILLING CODE 4910-13-P